POSTAL REGULATORY COMMISSION

39 CFR Part 3050

[Docket No. RM2010-8; Order No. 406]

Periodic Reporting

AGENCY: Postal Regulatory Commission.

ACTION: Advance notice of proposed rulemaking; availability of rulemaking petition.

SUMMARY: The Commission is noticing a Postal Service petition proposing a change in transportation cost system sampling. The proposal involves distributing rail costs using inter-BMC highway distribution factors. This notice briefly describes the Postal Service's rationale for proposing this change and addresses procedural steps associated with the petition.

DATES: Comments are due: February 24, 2010.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel, 202-789-6820 or stephen.sharfman@prc.gov.

SUPPLEMENTARY INFORMATION:

Table of Contents

I. Background

II. Procedural Matters

III. Ordering Paragraphs

I. Background

On February 9, 2010, the Postal Service filed a petition to initiate an informal rulemaking proceeding to consider a change in the analytical methods approved for use in periodic reporting.¹ The Postal Service labels its proposal “Proposal One” because it intends that it relate to the FY 2010 rather than the FY 2009 compliance reporting cycle. Proposal One seeks authorization from the Commission to immediately eliminate the rail portion of the Transportation Cost System (TRACS) sampling, and proposes instead to distribute rail costs using the Inter-BC highway distribution factors.

¹ Petition of the United States Postal Service Requesting Initiation of a Proceeding to Consider a Proposed Change in Analytic Principles (Proposal One), February 9, 2010 (Petition).

The Postal Service states that as part of a realignment of its transportation and distribution systems, it is shifting much of its transportation needs from rail to truck. Because rail costs are rapidly dwindling, it proposes to eliminate TRACS rail sampling, and to use the TRACS inter-BMC distribtion in place of the Rail distribution key in Cost Segment 14. Table 1 of the supporting material accompanying the Petition (Proposal One) shows that Freight Rail and Rail Plant Load costs are expected to decline by 75 percent from FY 2009 to FY 2010, when they will amount to less than $15 million. Id., Proposal One, at 1. Table 2 shows that substituting the inter-BMC distribution key for the Rail distribution key in FY 2009 would have had a small impact on the share of Segment 14 costs borne by each market dominant product. Id. at 2. The Postal Service comments that the impact will be de minimis in FY 2010 when Rail costs will make up a much smaller share of Segment 14 costs. The Postal Service states its desire to make the change before Quarter 3 of FY 2010 makes more efficient use of its data collection resources. Id.

II. Procedural Matters

The Commission sets February 24, 2010 as the due date for public comments. The Commission will determine the need for reply comments after reviewing the initial comments received.

Kenneth Moeller is designated as the Public Representative to represent the interests of the general public in this proceeding.

III. Ordering Paragraphs

It is ordered:

1. The Petition of the United States Postal Service Requesting Initiation of a Proceeding to Consider a Proposed Change in Analytic Principles (Proposal One), filed February 9, 2010, is granted.

2. The Commission establishes Docket No. RM2010-8 to consider the matters raised by the Postal Service's Petition.

3. Interested persons may submit comments on Proposal One no later than February 24, 2010.

4. Pursuant to 39 U.S.C. 505, Kenneth Moeller is appointed to serve as the Public Representative representing the interests of the general public.

5. The Secretary shall arrange for publication of this notice in the Federal Register.

By the Commission.
Shoshana M. Grove,
Secretary.

[FR Doc. 2010-3225 Filed 2-18-E8; 8:45 am]

BILLING CODE 7710-FW-S